DEPARTMENT OF ENERGY

Federal Energy Regulatory Commission

Combined Notice of Filings #1

Take notice that the Commission received the following electric corporate filings:

Docket Numbers: EC21-12-000

Applicants: ArcelorMittal S.A, ArcelorMittal USA LLC, ArcelorMittal Cleveland LLC, Cleveland-Cliffs Inc., AK Electric Supply LLC.

Description: Application for Authorization Under Section 203 of the Federal Power Act, et al. of ArcelorMittal S.A., et al.

Filed Date: 10/23/20.

Accession Number: 20201023-5181.

Comments Due: 5 p.m. ET 11/13/20.

Take notice that the Commission received the following exempt wholesale generator filings:

Docket Numbers: EG21-13-000.

Applicants: Brunner Island, LLC.

Description: Notice of Self-Recertification of Exempt Wholesale Generator Status of Brunner Island, LLC.

Filed Date: 10/26/20.

Accession Number: 20201026-5060.

Comments Due: 5 p.m. ET 11/16/20.

Docket Numbers: EG21-14-000.

Applicants: Rancho Seco Solar, LLC.

Description: Notice of Self-Certification of Exempt Wholesale Generator Status of Rancho Seco Solar, LLC.

Filed Date: 10/26/20.

Accession Number: 20201026-5114.

Comments Due: 5 p.m. ET 11/16/20.

Take notice that the Commission received the following electric rate filings:

Docket Numbers: ER20-2761-001.

Applicants: Southwest Power Pool, Inc.

Description: Tariff Amendment: 1628R18 Western Farmers Electric Cooperative NITSA NOA to be effective 8/1/2020.

Filed Date: 10/26/20.

Accession Number: 20201026-5111.

Comments Due: 5 p.m. ET 11/16/20.

Docket Numbers: ER20-2865-000; ER20-2866-000.

Applicants: 64NB 8me LLC, 91MC 8me, LLC.

Description: Supplement to September 11, 2020 64NB 8me LLC, et al. tariff filings, et al.

Filed Date: 10/22/20.

Accession Number: 20201022-5168.

Comments Due: 5 p.m. ET 10/30/20.

Docket Numbers: ER20-3003-000.

Applicants: PJM Interconnection, L.L.C.

Description: Notice of Cancellation of Interconnection Construction Service Agreement (No. 2277; Queue No. NQ25) of PJM Interconnection, L.L.C.

Filed Date: 9/25/20.

Accession Number: 20200925-5195.

Comments Due: 5 p.m. ET 11/2/20.

Docket Numbers: ER21-195-000.

Applicants: LS Power Grid California, LLC.

Description: Baseline eTariff Filing: LS Power Grid California Initial TO Tariff Filing to be effective 12/23/2020.

Filed Date: 10/23/20.

Accession Number: 20201023-5124.

Comments Due: 5 p.m. ET 11/13/20.

Docket Numbers: ER21-196-000.

Applicants: California Independent System Operator Corporation.

Description: § 205(d) Rate Filing: 2020-10-23 S-Line Entitlement Agreement to be effective 12/23/2020.

Filed Date: 10/23/20.

Accession Number: 20201023-5125.

Comments Due: 5 p.m. ET 11/13/20.

Docket Numbers: ER21-197-000.

Applicants: Public Service Company of Colorado.

Description: § 205(d) Rate Filing: 2020-10-23_PSCo-NXER-PLGIA-610-0.0.0 to be effective 10/24/2020.

Filed Date: 10/23/20.

Accession Number: 20201023-5127.

Comments Due: 5 p.m. ET 11/13/20.

Docket Numbers: ER21-198-000.

Applicants: Midcontinent Independent System Operator, Inc.

Description: § 205(d) Rate Filing: 2020-10-26_SA 3333 ITC-DTE Electric 1st Rev GIA (J793) to be effective 10/8/2020.

Filed Date: 10/26/20.

Accession Number: 20201026-5020.

Comments Due: 5 p.m. ET 11/16/20.

Docket Numbers: ER21-199-000.

Applicants: New York State Electric & Gas Corporation.

Description: § 205(d) Rate Filing: NYSEG-DCEC Attachment C Annual Update to be effective 1/1/2021.

Filed Date: 10/26/20.

Accession Number: 20201026-5048.

Comments Due: 5 p.m. ET 11/16/20.

Docket Numbers: ER21-200-000.

Applicants: Midcontinent Independent System Operator, Inc.

Description: § 205(d) Rate Filing: 2020-10-26_MISO TO's Att O Revisions re Materials & Supplies to be effective 1/1/2021.

Filed Date: 10/26/20.

Accession Number: 20201026-5062.

Comments Due: 5 p.m. ET 11/16/20.

Docket Numbers: ER21-201-000.

Applicants: Atlantic City Electric Company, PJM Interconnection, L.L.C.

Description: Compliance filing: ACE submits Compliance Filing re: Order 864 to be effective N/A.

Filed Date: 10/26/20.

Accession Number: 20201026-5082.

Comments Due: 5 p.m. ET 11/16/20.

Docket Numbers: ER21-202-000.

Applicants: Centrica Business Solutions Optimize, LLC.

Description: Baseline eTariff Filing: Application for Market-Based Rate Authorization to be effective 12/26/2020.

Filed Date: 10/26/20.

Accession Number: 20201026-5097.

Comments Due: 5 p.m. ET 11/16/20.

Docket Numbers: ER21-203-000.

Applicants: Baltimore Gas and Electric Company, PJM Interconnection, L.L.C.

Description: Compliance filing: BGE submits Compliance Filing re: Order 864 to be effective N/A.

Filed Date: 10/26/20.

Accession Number: 20201026-5098.

Comments Due: 5 p.m. ET 11/16/20.

Docket Numbers: ER21-204-000.

Applicants: Commonwealth Edison Company, PJM Interconnection, L.L.C.

Description: Compliance filing: ComEd Submits Compliance Filing Pursuant re: Order 864 to be effective N/A.

Filed Date: 10/26/20.

Accession Number: 20201026-5099.

Comments Due: 5 p.m. ET 11/16/20.

Docket Numbers: ER21-205-000.

Applicants: Delmarva Power & Light Company, PJM Interconnection, L.L.C.

Description: Compliance filing: Delmarva submits Compliance Filing re: Order 864 to be effective N/A.

Filed Date: 10/26/20.

Accession Number: 20201026-5100.

Comments Due: 5 p.m. ET 11/16/20.

Docket Numbers: ER21-206-000.

Applicants: Potomac Electric Power Company, PJM Interconnection, L.L.C.

Description: Compliance filing: PEPCO submits Compliance Filing re: Order 864 to be effective N/A.

Filed Date: 10/26/20.

Accession Number: 20201026-5102.

Comments Due: 5 p.m. ET 11/16/20.

Docket Numbers: ER21-207-000.

Applicants: Rancho Seco Solar, LLC.

Description: Baseline eTariff Filing: Application for Market-Based Rate Authority to be effective 11/1/2020.

Filed Date: 10/26/20.

Accession Number: 20201026-5109.

Comments Due: 5 p.m. ET 11/16/20.

Docket Numbers: ER21-208-000.

Applicants: Tri-State Generation and Transmission Association, Inc.

Description: Tariff Cancellation: Notice of Cancellation of Rate Schedule FERC No. 240 to be effective 8/31/2020.

Filed Date: 10/26/20.

Accession Number: 20201026-5115.

Comments Due: 5 p.m. ET 11/16/20.

Docket Numbers: ER21-209-000.

Applicants: PECO Energy Company, PJM Interconnection, L.L.C.

Description: Compliance filing: PECO submits Compliance Filing re: Order 864 to be effective 1/27/2020.

Filed Date: 10/26/20.

Accession Number: 20201026-5116.

Comments Due: 5 p.m. ET 11/16/20.

Docket Numbers: ER21-210-000.

Applicants: Midcontinent Independent System Operator, Inc., American Transmission Company LLC.

Description: § 205(d) Rate Filing: 2020-10-26_SA 3327 Termination of ATC-WPSC PCA (Packaging) to be effective 12/26/2020.

Filed Date: 10/26/20.

Accession Number: 20201026-5117.

Comments Due: 5 p.m. ET 11/16/20.

Docket Numbers: ER21-211-000.

Applicants: Public Service Company of New Mexico.

Description: § 205(d) Rate Filing: Pseudo Tie Agreement with APS, Rate Schedule No. 302 to be effective 10/27/2020.

Filed Date: 10/26/20.

Accession Number: 20201026-5118.

Comments Due: 5 p.m. ET 11/16/20.

Docket Numbers: ER21-212-000.

Applicants: Tri-State Generation and Transmission Association, Inc.

Description: Tariff Cancellation: Notice of Cancellation of Rate Schedule FERC No. 181 to be effective 2/26/2020.

Filed Date: 10/26/20.

Accession Number: 20201026-5121.

Comments Due: 5 p.m. ET 11/16/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2020.
Nathaniel J. Davis, Sr.,
Deputy Secretary.

[FR Doc. 2020-24087 Filed 10-29-20; 8:45 am]

BILLING CODE 6717-01-P